DEPARTMENT OF AGRICULTURE

Animal and Plant Health Inspection Service

7 CFR Part 301

[Docket No. 05-030-2]

Imported Fire Ant; Additions to Quarantined Areas in Arkansas and Tennessee

AGENCY: Animal and Plant Health Inspection Service, USDA.

ACTION: Affirmation of interim rule as final rule.

SUMMARY: We are adopting as a final rule, without change, an interim rule that amended the imported fire ant regulations by designating as quarantined areas all of 1 county in Arkansas and all or portions of 18 counties in Tennessee. As a result of the interim rule, the interstate movement of regulated articles from those areas is restricted. The interim rule was necessary to prevent the artificial spread of imported fire ant to noninfested areas of the United States.

DATES: The interim rule became effective on August 8, 2005.

FOR FURTHER INFORMATION CONTACT: Mr. Charles L. Brown, Imported Fire Ant Quarantine Program Manager, Pest Detection and Management Programs, PPQ, APHIS, 4700 River Road Unit 134, Riverdale, MD 20737-1236; (301) 734-4838.

SUPPLEMENTARY INFORMATION:

Background

In an interim rule effective and published in the Federal Register on August 8, 2005 (70 FR 45523-45525, Docket No. 05-030-1), we amended the imported fire ant regulations in 7 CFR 301.81 through 301.81-10 by adding all of Montgomery County, AR, and all or portions of Bedford, Benton, Bledsoe, Blount, Carroll, Coffee, Cumberland, Giles, Grundy, Haywood, Hickman, Humphreys, Marshall, Maury, Moore, Perry, Roane and Sequatchie Counties, TN, to the list of quarantined areas in § 301.81-3(e).

Comments on the interim rule were required to be received on or before October 7, 2005. We did not receive any comments. Therefore, for the reasons given in the interim rule, we are adopting the interim rule as a final rule.

This action also affirms the information contained in the interim rule concerning Executive Order 12866 and the Regulatory Flexibility Act, Executive Orders 12372 and 12988, and the Paperwork Reduction Act.

Further, for this action, the Office of Management and Budget has waived its review under Executive Order 12866.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 and that was published at 70 FR 45523-45525 on August 8, 2005.

Done in Washington, DC, this 3rd day of February 2006.
Kevin Shea,
Acting Administrator, Animal and Plant Health Inspection Service.

[FR Doc. 06-1203 Filed 2-8-06; 8:45 am]

BILLING CODE 3410-34-P